DEPARTMENT OF THE INTERIOR

Bureau of Land Management

[A2407-014-004-065516; #O2412-014-004-047181.1]

Notice of Federal Competitive Coal Lease Sale, Little Eccles Tract, Utah (Coal Lease Application UTU-92226)

AGENCY: Bureau of Land Management, Interior.

ACTION: Notice of lease sale.

SUMMARY: Notice is hereby given that the United States Department of the Interior, Bureau of Land Management (BLM), Utah State Office will offer the Federal coal resources described below as the Little Eccles Tract (UTU-92226) for competitive sale by sealed bid package, in accordance with applicable laws, including the Mineral Leasing Act of 1920 (MLA), as amended, and the applicable implementing regulations. The sale tract is located in Emery County, Utah.

DATES: The lease sale will be held at 1:00 p.m. Mountain Time, on October 1, 2025. Sealed bids must be sent by certified mail, return receipt requested, to the Collections Officer, BLM, Utah State Office, or hand-delivered to the BLM public room Contact Representative, BLM Utah State Office, at the address indicated below. All sealed bid packages must be received no later than 11:00 a.m. Mountain Time, on October 1, 2025. Any bid package received after the time specified will not be considered and will be returned. The BLM Contact Representative will issue a receipt for each hand-delivered, sealed bid package. The outside of the sealed envelope containing the bid package must clearly state the envelope contains a bid for Coal Lease Sale UTU-92226 and is not to be opened before the date and hour of the sale.

ADDRESSES: Sealed bids must be mailed to the Collection Officer or hand-delivered to the BLM public room Contact Representative at BLM, Utah State Office, 440 West 200 South, Suite 500, Salt Lake City, Utah 84101.

FOR FURTHER INFORMATION CONTACT: Erika Tobin, telephone (435) 636-3605; address BLM Price Field Office, 126 South 600 West, Price, UT 84501; email etobin@blm.gov. Individuals in the United States who are deaf, deafblind, hard of hearing, or have a speech disability may dial 711 (TTY, TDD, or TeleBraille) to access telecommunications relay services for contacting Ms. Tobin. Individuals outside the United States should use the relay services offered within their country to make international calls to the point-of-contact in the United States.

SUPPLEMENTARY INFORMATION: This competitive coal lease sale is being held in response to a lease by application submitted by Canyon Fuel Company, LLC (CFC). The coal resources to be offered consist of all recoverable reserves available in the lands identified below. These lands are located in:

Salt Lake Merdian, Utah

T. 14 S., R. 6 E.,

Sec. 10, W½SE¼ and SE¼SE¼.

The area described contains 120 acres, according to the official plat of the survey of the said land on file with the BLM. The surface of these lands is managed by the United States Forest Service, Manti-La Sal National Forest, and the coal is managed by the BLM.

The Little Eccles tract has one minable coal bed called the Lower O'Connor A (LOA) seam with minable portions ranging from 10.5-15.7 feet in thickness. The tract contains recoverable coal reserves of approximately 1.29 million tons of high volatile C bituminous coal. The final recoverable reserve tonnage for bidding purposes will be in the notice of proposed sale, which is posted in the BLM Utah State Office Public Room.

The quality in the coal bed in the lease by application on an “as received” basis is as follows: 12,519 Btu/Lb, 5.98 percent Moisture, 7.01 percent Ash, 42.70 percent Volatile matter, 44.31 percent Fixed carbon, and 0.52 percent Sulfur. BLM may revise this information based on additional information and public comments received.

Pursuant to the applicable regulations, the Little Eccles Tract may be leased to the qualified bidder (as established at 43 CFR part 3470, subpart 3472) that submits the highest cash bonus bid that is equal to or exceeds the fair market value (FMV) for the tract as determined by the authorized officer after the sale.

The Department of the Interior has established a general minimum bid of $100 per acre or fraction thereof for the tract. The minimum bid is not intended to represent the FMV, and a tract will not be sold unless the bid received meets or exceeds BLM's FMV estimate. The lease that may be issued as a result of this offering will provide for payment of an annual rental of $3 per acre or fraction thereof and a royalty of 7 percent until September 30, 2034, at which time the royalty rate will revert to the MLA, as amended, prescribed royalty rate of the value of the coal produced by underground mining methods. The value of the coal for royalty purposes will be determined in accordance with 30 CFR part 1206.

This coal lease application (UTU-92226) is subject to case-by-case processing fees pursuant to 43 CFR 3473.2(f). The successful bidder must pay the BLM the cost of the case-by-case processing fees as described in the detailed statement.

The required detailed statement under 43 CFR 3422.2 for the offered tract, including bidding instructions and sale procedures under 43 CFR 3422.3-2, and the terms and conditions of the proposed coal lease, are available in the BLM Utah State Office Public Room. All case file documents, and written comments submitted by the public on FMV or royalty rates, except those portions identified as proprietary by the commentator and meeting exemptions stated in the Freedom of Information Act, are available for public inspection by contacting Erika Tobin etobin@blm.gov.

(Authority: 43 CFR 3422.2)

Gerald Davis,
State Director, Acting.

[FR Doc. 2025-17362 Filed 9-9-25; 8:45 am]

BILLING CODE 4331-25-P